DEPARTMENT OF HEALTH AND HUMAN SERVICES

Administration for Children and Families

Submission for OMB Review; Services Provided to Unaccompanied Alien Children (0970-0553)

AGENCY: Office of Refugee Resettlement; Administration for Children and Families; Department of Health and Human Services.

ACTION: Request for public comment.

SUMMARY: The Office of Refugee Resettlement (ORR) Administration for Children and Families (ACF), Department of Health and Human Services (HHS), is proposing to continue to collect information that will allow Unaccompanied Alien Children (UAC) Program to provide services to UAC as required by statute and ORR policy. These information collections were originally approved under emergency approval for 6 months. This request is to continue data collection. Information collections related to other aspects of the UAC Programs, such as sponsorship and health care, are covered under OMB Numbers 0970-0278, 0970-0385, 0970-0466, 0970-0490, 0970-0498, 0970-0509, and 0970-0543.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The components of this information request include:

1. Sponsor Assessment (Form S-5): This instrument is used by case managers to document their assessment of the suitability of a potential sponsor to provide for the safety and well-being of a UAC.

2. Home Study Report (Form S-6): This instrument is used by home study providers to document their assessment of a potential sponsor after performing a home site visit.

3. New Sponsor (Form S-7): This instrument is used by care providers to assign a potential sponsor to a UAC in the ORR database and track certain information related to the potential sponsor for safety and suitability assessment purposes. This form is currently approved under OMB Number 0970-0498.

4. Initial Intakes Assessment (Form S-8): This instrument is used by care providers to screen UAC for trafficking or other safety concerns, special needs, danger to self and others, medical conditions, and mental health concerns. This form is currently approved under OMB Number 0970-0498.

5. Assessment for Risk (Form S-9): This instrument is an assessment administered by care providers to reduce the risk that a child or youth is sexually abused or abuses someone else while in ORR custody.

6. UAC Assessment (Form S-11): This instrument is an assessment used by care providers to document information about the UAC that is used to inform provision of services (e.g., case management, legal, education, medical, mental health, home studies), screen for trafficking or other safety concerns, and identify special needs. This form is currently approved under OMB Number 0970-0498.

7. UAC Case Review (Form S-12): This instrument is used by care providers to document new information obtained after completion of the UAC Assessment. This form is currently approved under OMB Number 0970-0498.

8. Individual Service Plan (Form S-13): This instrument is used by care providers to document all services provided to the UAC. This form is currently approved under OMB Number 0970-0498.

9. UAC Long Term Foster Care Travel Request (Form S-14): This instrument is used by long term foster care providers to request ORR approval for a UAC to travel with their foster family outside of the local community. This form is currently approved under OMB Number 0970-0498.

10. Child Advocate Recommendation and Appointment (Form S-15): This instrument is used by care providers and other stakeholders to recommend appointment of a child advocate for a UAC. The child advocate contractor then enters whether a child advocate is available and ORR approves the appointment. This form is currently approved under OMB Number 0970-0498.

11. Summary Notes: Thirty Day Restrictive Placement Case Review (Form S-16): This instrument is used by care providers to document their thirty day review for UAC in placed in a restrictive setting.

12. UAC Case Status: This instrument is used by care providers to monitor the status of high-level milestones in a UAC's case.

Respondents: ORR grantee and contractor staff; UAC; sponsors; and child advocates.

Annual Burden Estimates
Instrument | Annual total number of respondents | Annual total number of responses per respondent | Average burden minutes per response | Annual total burden hours
Sponsor Assessment (Form S-5) | 206 | 327 | 60 | 67,362
Home Study Report (Form S-6) | 11 | 364 | 45 | 3,003
New Sponsor (Form S-7) | 206 | 327 | 20 | 22,454
Initial Intakes Assessment (Form S-8) | 206 | 363 | 15 | 18,695
Assessment for Risk (Form S-9) | 206 | 794 | 30 | 81,782
UAC Assessment (Form S-11) | 206 | 369 | 45 | 57,011
UAC Case Review (Form S-12) | 206 | 764 | 30 | 78,692
Individual Service Plan (Form S-13) | 206 | 985 | 15 | 50,728
UAC Long Term Foster Care Travel Request (Form S-14) | 30 | 9 | 15 | 68
Child Advocate Referral and Appointment (Form S-15) | 206 | 5 | 15 | 258
Summary Notes Thirty Day Restrictive Placement Case Review (Form S-16) | 15 | 68 | 30 | 510
UAC Case Status | 206 | 354 | 3 | 3,646
Estimated Annual Burden Total: |  |  |  | 384,207

Authority: 6 U.S.C. 279; 8 U.S.C. 1232; Flores v. Reno Settlement Agreement, No. CV85-4544-RJK (C.D. Cal. 1996)

Mary B. Jones,
ACF/OPRE Certifying Officer.

[FR Doc. 2020-27898 Filed 12-17-20; 8:45 am]

BILLING CODE 4184-45-P